DEPARTMENT OF COMMERCE

National Oceanic and Atmospheric Administration

50 CFR Part 665

RIN 0648-AV30

Fisheries in the Western Pacific; Precious Corals Fisheries; Black Coral Quota and Gold Coral Moratorium

AGENCY: National Marine Fisheries Service (NMFS), National Oceanic and Atmospheric Administration (NOAA), Commerce.

ACTION: Notice of availability of fishery management plan amendment; request for comments.

SUMMARY: NMFS announces that the Western Pacific Fishery Management Council proposes to amend the Fishery Management Plan for the Precious Corals Fisheries of the Western Pacific Region (Amendment 7). If approved by the Secretary of Commerce, Amendment 7 would designate the Au'au Channel, Hawaii, black coral bed as an “Established Bed” with a harvest quota of 5,000 kg every two years that applies to Federal and State of Hawaii waters, and establish a 5-year moratorium on the harvest of gold coral throughout the U.S. western Pacific. The proposed amendment is intended to prevent overfishing and achieve optimum yield of precious coral resources.

DATES: Comments on Amendment 7, which includes an environmental assessment, must be received by July 22, 2008.

ADDRESSES: Comments on the amendment, identified by 0648-AV30, may be sent to either of the following addresses:

• Electronic Submission: Submit all electronic public comments via the Federal e-Rulemaking Portal www.regulations.gov; or

• Mail: William L. Robinson, Regional Administrator, NMFS, Pacific Islands Region (PIR), 1601 Kapiolani Blvd., Suite 1110, Honolulu, HI 96814-4700.

Instructions: All comments received are a part of the public record and will generally be posted to www.regulations.gov without change. All Personal Identifying Information (e.g., name, address, etc.) submitted voluntarily by the commenter may be publicly accessible. Do not submit Confidential Business Information, or otherwise sensitive or protected information. NMFS will accept anonymous comments. Attachments to electronic comments will be accepted in Microsoft Word or Excel, WordPerfect, or Adobe PDF file formats only.

Copies of Amendment 7, including an environmental assessment, are available from the Western Pacific Fishery Management Council (Council), 1164 Bishop St., Suite 1400, Honolulu, HI 96813, tel 808-522-8220, fax 808-522-8226, or web site www.wpcouncil.org.

FOR FURTHER INFORMATION CONTACT: Brett Wiedoff, NMFS PIR, 808-944-2272.

SUPPLEMENTARY INFORMATION: This Federal Register document is also accessible at the Office of the Federal Register at www.gpoaccess.gov/fr.

Precious coral fisheries in the U.S. western Pacific are managed under the Fishery Management Plan for the Precious Corals Fisheries of the Western Pacific Region (FMP), which was developed by the Council, approved by the Secretary of Commerce, and implemented by NMFS. The Council has submitted Amendment 7 to NMFS for review under the Magnuson-Stevens Fishery Conservation and Management Act. This document announces that the amendment is available for public review and comment for 60 days. NMFS will consider public comments received during the comment period with respect to the approval, partial approval, or disapproval of Amendment 7.

Research has shown that the biomass of the Au'au Channel black coral population has decreased by at least 25 percent in the last 30 years. Data collected during submersible dives showed a decline in both recruitment and relative abundance of legal-sized black coral colonies. The decline in recruitment may be related to competition with alien coral species and fishing pressure. The highly-invasive soft coral, Carijoa riisei, has been found overgrowing large areas of black coral habitat, particularly in deep water between 80-110 m. Additionally, fishery harvests of shallower black coral populations have been increasing, stressing these populations further.

In Amendment 7, the Council recommends that Au'au Channel black corals be designated as an “Established Bed” with a harvest quota of 5,000 kg every two years. This quota would apply in both Federal and State of Hawaii waters, and all existing Federal gear and size restrictions would continue to apply.

Current estimates of the linear growth rate for gold coral is about 6.6 cm/yr, suggesting that large colonies are relatively young. These estimates are based on the assumption that growth rings are laid down annually, as in other precious corals (e.g., black and pink corals). Recent research on the growth of gold corals, however, has found that gold corals may grow much slower, possibly 0.004 to 0.0014 cm/yr. Such growth rates indicate that some gold coral colonies are thousands of years old and, thus, susceptible to over-harvesting.

Unlike the active black coral fishery in Hawaii, the gold coral fishery in the U.S. western Pacific is currently dormant. With recent research results that challenge current assumptions about gold coral growth rates, the Council is also recommending in Amendment 7 a 5-year moratorium on the harvest of gold corals, during which time research will be conducted on gold coral age structures, growth rates, and correlations between length and age. The research results would be considered by the Council and NMFS prior to the expiration of the five-year moratorium on harvesting.

The actions recommended by the Council are intended to prevent overfishing and achieve optimum yield of black corals, and to prevent overfishing and stimulate research on gold corals.

Public comments on the proposed amendment must be received by July 22, 2008 to be considered by NMFS in the decision to approve, partially approve, or disapprove the amendment. A proposed rule to implement the amendment has been submitted for Secretarial review and approval. NMFS expects to publish and request public comment on the proposed rule in the near future.

Authority: 16 U.S.C. 1801 et seq.

Dated: May 16 2008.
Emily H. Menashes,
Acting Director, Office of Sustainable Fisheries, National Marine Fisheries Service.

[FR Doc. E8-11536 Filed 5-22-08; 8:45 am]

BILLING CODE 3510-22-S